DEPARTMENT OF TRANSPORTATION

Federal Aviation Administration

14 CFR Part 39

[Docket No. FAA-2007-27747; Directorate Identifier 2007-CE-030-AD; Amendment 39-16782; AD 2009-10-09 R2]

RIN 2120-AA64

Airworthiness Directives; Cessna Aircraft Company Airplanes

AGENCY: Federal Aviation Administration (FAA), DOT.

ACTION: Final rule; request for comments.

SUMMARY: We are revising an existing airworthiness directive (AD) for certain Cessna Aircraft Company (Cessna) Models 150F, 150G, 150H, 150J, 150K, 150L, 150M, A150K, A150L, A150M, F150F, F150G, F150H, F150J, F150K, F150L, F150M, FA150K, FA150L, FRA150L, FA150M, FRA150M, 152, A152, F152, and FA152 airplanes. That AD currently requires either installing a placard prohibiting spins and other acrobatic maneuvers in the airplane or replacing the rudder stop, the rudder stop bumper, and the attachment hardware with a rudder stop modification kit. This new AD requires a change to the modification kit and removal of a small amount of material from the rudder horn assembly for those that have not yet complied with the existing AD or for those who can not comply with the existing AD (because they were unable to obtain full rudder travel with the existing kits). This AD was prompted by operators who have reported difficulty in obtaining full rudder travel with the existing modification kit. We are issuing this AD to revise the kits to use longer rivets and allow a small amount of material to be removed from the rudder horn assembly, which allows operators to obtain full rudder travel.

DATES: This AD is effective September 12, 2011.

The Director of the Federal Register approved the incorporation by reference of certain publications listed in the AD as of September 12, 2011.

We must receive any comments on this AD by October 11, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Cessna Aircraft Company, Product Support, P.O. Box 7706, Wichita, KS 67277; telephone: (316) 517-5800; fax: (316) 517-7271; Internet: http://www.cessna.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Ann Johnson, Aerospace Engineer, FAA, Wichita Aircraft Certification Office, 1801 Airport Road, Room 100, Wichita, Kansas 67209; telephone: (316) 946-4105; fax: (316) 946-4107; e-mail: ann.johnson@faa.gov.

SUPPLEMENTARY INFORMATION:

Discussion

On October 27, 2009, we issued AD 2009-10-09 R1, amendment 39-16074 (74 FR 57408, November 6, 2009), for certain Cessna Aircraft Company (Cessna) Models 150F, 150G, 150H, 150J, 150K, 150L, 150M, A150K, A150L, A150M, F150F, F150G, F150H, F150J, F150K, F150L, F150M, FA150K, FA150L, FRA150L, FA150M, FRA150M, 152, A152, F152, and FA152 airplanes. That AD requires installation of a placard prohibiting spins and other acrobatic maneuvers in the airplane or replacement of the rudder stop, rudder stop bumper, and attachment hardware with a new rudder stop modification kit and replacement of the safety wire with jamnuts. The revision was issued to clarify certain model and serial number designations, remove the duplicate requirement of replacing the safety wire with jamnuts, and clarify the conditional acceptability of using modification kit part number (P/N) SK152-25 as a terminating action to that AD. That AD resulted from follow-on investigations of two accidents where the rudder was found in the over-travel position with the stop plate hooked over the stop bolt heads. While neither of the accident aircraft met type design, investigations revealed that aircraft in full conformity with type design can exceed the travel limits set by the rudder stops. We issued that AD to prevent the rudder from traveling past the normal travel limit. Operation in this non-certificated control position is unacceptable and could cause undesirable consequences, such as contact between the rudder and the elevator.

Actions Since AD Was Issued

Since we issued AD 2009-10-09 R1 (74 FR 57408, November 6, 2009), compliance with the existing AD required operators to check for full rudder travel with the installation of the existing kits (P/N SK152-24A and P/N SK152-25A). Some operators have reported difficulty in obtaining full rudder travel with these kits. To correct this issue, Cessna has revised the kits to use longer rivets and allow a small amount of material to be removed from the rudder horn assembly, which allows operators to obtain full rudder travel.

Relevant Service Information

We reviewed Cessna Aircraft Company Service Bulletin SEB01-1, Revision 1, dated March 22, 2011; Cessna Aircraft Company Service Kit SK152-24B, dated March 22, 2011; and Cessna Aircraft Company Service Kit SK152-25B, dated March 22, 2011. The service information describes procedures for replacement of the rudder stop, rudder stop bumper, and attachment hardware with a new rudder stop modification kit.

FAA's Determination

We are issuing this AD because we evaluated all the relevant information and determined the unsafe condition described previously is likely to exist or develop in other products of the same type design.

AD Requirements

This AD requires installation of a placard prohibiting spins and other acrobatic maneuvers in the airplane or replacement of the rudder stop, rudder stop bumper, and attachment hardware with a new rudder stop modification kit.

Change to Existing AD

This AD would retain certain requirements of AD 2009-10-09 R1 (74 FR 57408, November 6, 2009). Since AD 2009-10-09 R1 was issued, the AD format has been revised, and certain paragraphs have been rearranged. As a result, the corresponding paragraph identifiers have changed in this AD, as listed in the following table:

Revised Paragraph Identifier
Requirement in AD 2009-10-09 R1 | Corresponding requirement in this AD
paragraph (e) | paragraph (g)
paragraph (f) | paragraph (h)

FAA's Justification and Determination of the Effective Date

This action incorporates revised modification kits that can be used by all airplanes that would need the modification incorporated in the future and does not require any additional work for those airplanes with the modification already incorporated (see table 3). Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2007-27747 and directorate identifier 2007-CE-030-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 17,090 airplanes of U.S. registry.

Estimated Costs

We estimate the following costs to do the insertion of the operational limitation:

Action | Labor cost | Parts cost | Cost per product | Cost on U.S. operators
Insert limitations and placard | 1 work-hour × $85 per hour = $85 | Not applicable | $85 | $1,452,650

We estimate the following costs to do the modification:

Action | Labor cost | Parts cost | Cost per product | Cost on U.S. operators
Install a rudder stop modification kit | 4 work-hours × $85 per hour = $340 | $90 | $430 | $7,348,700

The new requirements of this AD add no additional economic burden. The increased estimated cost of this AD is due to increased labor cost from 2009 when AD 2009-10-09 R1 (74 FR 57408, November 6, 2009) was issued.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-10-09 R1, Amendment 39-16074 (74 FR 57408, November 6, 2009), and adding the following new AD:

2009-10-09 R2 Cessna Aircraft Company: Amendment 39-16782; Docket No. FAA-2007-27747; Directorate Identifier 2007-CE-030-AD.

(a) Effective Date

This AD is effective September 12, 2011.

(b) Affected ADs

This AD revises AD 2009-10-09 R1, Amendment 39-16074 (74 FR 57408, November 6, 2009).

(c) Applicability

(c) This AD applies to the following airplane models and serial numbers that are certificated in any category:

Table 1—Applicability
Models | Serial Nos.
(1) 150F | 15061533 through 15064532.
(2) 150G | 15064533 through 15064969 and 15064971 through 15067198.
(3) 150H | 15067199 through 15069308 and 649.
(4) 150J | 15069309 through 15071128.
(5) 150K | 15071129 through 15072003.
(6) 150L | 15072004 through 15075781.
(7) 150M | 15075782 through 15079405.
(8) A150K | A1500001 through A1500226.
(9) A150L | A1500227 through A1500432 and A1500434 through A1500523.
(10) A150M | A1500524 through A1500734 and 15064970.
(11) F150F | F150-0001 through F150-0067.
(12) F150G | F150-0068 through F150-0219.
(13) F150H | F150-0220 through F150-0389.
(14) F150J | F150-0390 through F150-0529.
(15) F150K | F15000530 through F15000658.
(16) F150L | F15000659 through F15001143.
(17) F150M | F15001144 through F15001428.
(18) FA150K | FA1500001 through FA1500081.
(19) FA150L | FA1500082 through FA1500120.
(20) FA150L or FRA150L | FA1500121 through FA1500261 that are equipped with FKA150-2311 and FKA150-2316, or FRA1500121 through FRA1500261.
(21) FA150M or FRA150M | FA1500262 through FA1500336 that are equipped with FKA150-2311 and FKA150-2316, or FRA1500262 through FRA1500336.
(22) 152 | 15279406 through 15286033.
(23) A152 | A1520735 through A1521049, A1500433, and 681.
(24) F152 | F15201429 through F15201980.
(25) FA152 | FA1520337 through FA1520425.

Note: AD 2009-10-09 R1 (74 FR 57408, November 6, 2009) clarified the applicability of AD 2009-10-09 (74 FR 22429, May 3, 2009), eliminated a duplicate requirement for replacement of safety wire with jamnuts, and clarified the intent of the conditional acceptability of using modification kit part number (P/N) SK152-25 as a terminating requirement to the AD. No further action is required for those already in compliance with AD 2009-10-09 R1, which included verification of full rudder travel as part of the kit work.

(d) Subject

Joint Aircraft System Component (JASC)/Air Transport Association (ATA) of America Code 2720, Rudder Control System.

(e) Unsafe Condition

Aircraft in full conformity with type design can exceed the travel limits set by the rudder stops. We are issuing this AD to prevent the rudder from traveling past the normal travel limit. Operation in this non-certificated control position is unacceptable and could cause undesirable consequences, such as contact between the rudder and the elevator.

(f) Compliance

Comply with this AD within the compliance times specified, unless already done.

(g) Actions

To address this problem, you must do either the actions in option 1 or option 2 of this AD, unless already done:

Table 2—Actions, Compliance and Procedures
Actions | Compliance | Procedures
(1) Option 1: For all airplanes that do not have modification kits P/N SK152-25B or P/N SK152-24B installed (or the other kits allowed by Table 3), do the following: (i) Insert the following text into the Limitations section of the FAA-approved airplane flight manual (AFM), and pilot's operating handbook (POH): “INTENTIONAL SPINS AND OTHER ACROBATIC/AEROBATIC MANEUVERS PROHIBITED PER AD 2009-10-09. NOTE: THIS AD DOES NOT PROHIBIT PERFORMING INTENTIONAL STALLS.” (ii) Fabricate a placard (using at least ⅛-inch letters) with the following words and install the placard on the instrument panel within the pilot's clear view: “INTENTIONAL SPINS AND OTHER ACROBATIC/AEROBATIC MANEUVERS PROHIBITED PER AD 2009-10-09.” (iii) The AFM and POH limitations in paragraph (g)(1)(i) of the AD and the placard in paragraph (g)(1)(ii) of this AD may be removed after either paragraph (g)(2)(i) or paragraph (g)(2)(ii) of this AD is done. | Within the next 100 hours time-in-service (TIS) after December 11, 2009 (the effective date retained from AD 2009-10-09 R1 (74 FR 57408, November 6, 2009)), or within the next 12 months after December 11, 2009 (the effective date retained from AD 2009-10-09 R1), whichever occurs first. | A person authorized to perform maintenance as specified in 14 CFR section 43.3 of the Federal Aviation Administration Regulations (14 CFR 43.3) is required to make the AFM and POH changes, fabricate the placard required in paragraph (g)(1)(i) of this AD, and make an entry into the aircraft logbook showing compliance with the portion of the AD per compliance with 14 CFR 43.9.
(2) Option 2: Install a rudder stop modification kit: (i) For airplanes with a forged bulkhead, replace the rudder stops, rudder stop bumpers, and attachment hardware with the new rudder stop modification kit P/N SK152-25B. (ii) For airplanes with a sheet metal bulkhead, replace the rudder stops, rudder stop bumpers, and attachment hardware with the new rudder stop modification kit P/N SK152-24B. (iii) Refer to Table 3 in paragraph (g) of this AD for other applicable kit P/Ns. | Within the next 100 hours TIS after December 11, 2009 (the effective date retained from AD 2009-10-09 R1 (74 FR 57408, November 6, 2009)), or within the next 12 months after December 11, 2009 (the effective date retained from AD 2009-10-09 R1), whichever occurs first. | Follow Cessna Aircraft Company Service Bulletin SEB01-1, Revision 1, dated March 22, 2011; and, as applicable, either Cessna Aircraft Company Service Kit SK152-25B, dated March 22, 2011, or Cessna Aircraft Company Service Kit SK152-24B, dated March 22, 2011.

(h) Kit Part Number Applicability

Table 3 of this AD identifies when a kit P/N that has already been ordered may be used to comply with this AD. All future orders received by Cessna for kits P/Ns SK152-24, SK152-25, SK152-24A, and SK 152-25A will automatically be filled with P/Ns SK152-24B and SK152-25B, respectively.

Table 3—Kit Applicability
Kit P/N | Type of bulkhead | Can it be installed to comply with this AD, or will credit be given for compliance with previous revisions of this AD?
(1) SK152-24 | sheet metal | NO.
(2) SK152-25 | forged | ONLY if washer P/N NAS1149F0332P is used (and this is recorded in the maintenance log), AND full rudder travel can be verified.
(3) SK152-24A | sheet metal | ONLY if full rudder travel can be verified.
(4) SK152-25A | forged | ONLY if full rudder travel can be verified.
(5) SK152-24B | sheet metal | YES.
(6) SK152-25B | forged | YES.

(i) Credit for Actions Accomplished Using Previous Service Information

Credit will be given for the actions in paragraphs (g)(1) and (g)(2) of this AD if already done and you were able to verify full rudder travel before the effective date of this AD per AD 2009-10-09 R1, Amendment 39-16074 (74 FR 57408, November 6, 2009); Cessna Aircraft Company Service Bulletin SEB01-1, dated January 22, 2001; and, as applicable, either Cessna Aircraft Company Service Kit SK152-25A, Revision A, dated February 9, 2001, or Cessna Aircraft Company Service Kit SK152-24A, Revision A, dated March 9, 2001.

(j) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2009-10-09 (74 FR 22429, May 3, 2009) and AD 2009-10-09 R1 (74 FR 57408, November 6, 2009) are approved as AMOCs for this AD.

(k) Related Information

For more information about this AD, contact Ann Johnson, Aerospace Engineer, FAA, Wichita Aircraft Certification Office, 1801 Airport Road, Room 100, Wichita, Kansas 67209; telephone: (316) 946-4105; fax: (316) 946-4107; e-mail: ann.johnson@faa.gov.

(l) Material Incorporated by Reference

(1) You must use the following service information to do the actions required by this AD, unless the AD specifies otherwise. The Director of the Federal Register approved the incorporation by reference (IBR) under 5 U.S.C. 552(a) and 1 CFR part 51 of the following service information on September 12, 2011:

(i) Cessna Aircraft Company Service Bulletin SEB01-1, Revision 1, dated March 22, 2011;

(ii) Cessna Aircraft Company Service Kit SK152-25B, dated March 22, 2011; and

(iii) Cessna Aircraft Company Service Kit SK152-24B, dated March 22, 2011.

(2) For service information identified in this AD, contact Cessna Aircraft Company, Product Support, P.O. Box 7706, Wichita, KS 67277; telephone: (316) 517-5800; fax: (316) 517-7271; Internet: http://www.cessna.com.

(3) You may review copies of the service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on August 11, 2011.
John Colomy,
Acting Manager, Small Airplane Directorate, Aircraft Certification Service.

[FR Doc. 2011-21210 Filed 8-25-11; 8:45 am]

BILLING CODE 4910-13-P